DEPARTMENT OF HEALTH AND HUMAN SERVICES

Centers for Disease Control and Prevention

[60 Day-15-15BBT; Docket No. CDC-2015-0068]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection entitled National Unintentional Drug Overdose Reporting System (NUDORS). CDC will use the information collected to perform fatal unintentional drug overdose surveillance in a quickly and comprehensive way.

DATES: Written comments must be received on or before October 13, 2015.

ADDRESSES: You may submit comments, identified by Docket No. CDC-2015-0068 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Unintentional Drug Overdose Reporting System (NUDORS)—New — National Center for Injury Prevention and Control (NCIPC), Centers for Disease Control and Prevention (CDC).

Background and Brief Description

In 2013, in the United States, there were nearly 44,000 drug overdose deaths, including nearly 36,000 unintentional drug overdose deaths. More people are now dying of drug overdose than automobile crashes in the United States. A major driver of the problem are overdoses related to opioids, both opioid pain relievers (OPRs) and illicit forms such as heroin. In order to address this public health problem, the U.S. Department of Health and Human Services (HHS) has made addressing the opioid abuse problem a high priority.

In order to support targeting of drug overdose prevention efforts, detect new trends in fatal unintentional drug overdoses, and assess the progress of HHS's initiative to reduce opioid abuse and overdoses, the National Unintentional Drug Overdose Reporting System (NUDORS) plans to generate public health surveillance information at the national, state, and local levels that is more detailed, useful, and timely than is currently available.

The goal of the proposed information collection is to generate public health surveillance information on unintentional fatal drug overdoses at the national, state, and local levels that is more detailed, useful, and timely than is currently available. This information will help develop, inform, and assess the progress of drug overdose prevention strategies at both the state and national levels.

NUDORS will collect information that is currently not collected on death certificates such as whether the drug(s) causing the overdoses were injected or taken orally, a toxicology report on the decedent, if available, and risk factors for fatal drug overdoses including previous drug overdoses, decedent's mental health, and whether the decedent recently exiting a treatment program. Without this information, drug overdose efforts are often based on limited information available in the death certificate and anecdotal evidence.

OMB approval is requested for three years. Participation is based on secondary data and is dependent on separate data collection efforts in each state managed by the state health departments or their bona fide agent. There are no costs to respondents. CDC estimates the information collection burden hours for the 16 participating state health agencies that will retrieve and refile records for this collection are 5,704.

Estimated Annualized Burden Hours
Type of respondent | Form name | Number of respondents | Total number of responses per respondent | Average burden per response (in hours) | Total burden hours (in hours)
Public Agencies | Retrieving and refile records | 16 | 713 | 30/60 | 5,704
Total |  |  |  |  | 5,704

Leroy A. Richardson,
Chief, Information Collection Review Office, Office of Scientific Integrity, Office of the Associate Director for Science, Office of the Director, Centers for Disease Control and Prevention.

[FR Doc. 2015-19992 Filed 8-13-15; 8:45 am]

BILLING CODE 4163-18-P